DEPARTMENT OF JUSTICE

Notice of Lodging of Consent Decree Pursuant to the Clean Water Act

In accordance with Departmental Policy, 28 CFR 50.7, notice is hereby given that a consent decree resolving the liability of John Simpson (“Defendant”) in United States of America v. Simpson, Civil Action No. 01-288-E-BLW, will be lodged with the United States District Court for the District of Idaho.

The proposed consent decree concerns allegations that Defendant violated the Clean Water Act, 33 U.S.C. 1311, and a scenic easement, and committed trespass, resulting from the unauthorized discharge of dredged or fill materials into waters of the United States in Custer County, Idaho, in areas adjacent to the Salmon River. The consent decree enjoins the Defendant from (1) discharging dredged or fill material into waters of the United States; (2) violating the scenic easement; and (3) trespassing. It also requires the Defendant to restore the site; to conduct additional injunctive relief; and to pay a civil penalty of $23,750 to the United States Treasury.

The Department of Justice will receive written comments relating to the proposed consent decree for a period of eight (8) days from the date of publication of this notice. This expedited comment period is necessary due to the short time period available for completing certain restoration work under the Consent Decree during this summer. Comments should either be sent by overnight express delivery addressed to the Assistant Attorney General, Environment and Natural Resources Division, United States Department of Justice, Attention: David Kaplan, Senior Trial Counsel, Environmental Defense Section, Suite 8000, 601 D Street, Washington, DC 20004, or by telefax to (202) 514-8865, and marked Attention: David Kaplan, Environmental Defense Section, and in either case should refer to United States of America v. John Simpson, DJ Reference No. 90-5-1-1-16255.

A copy of the proposed consent decree may be obtained for examination by requesting a copy by calling (202) 514-2219 and asking for David Kaplan.

Russell Young,
Assistant Chief, Environmental Defense Section, Environment and Natural Resources Division, United States Department of Justice.

[FR Doc. 02-15895 Filed 6-19-02; 4:37 pm]

BILLING CODE 4410-15-M